DEPARTMENT OF ENERGY

Federal Energy Regulatory Commission

[Docket No. RT01-15-000]

Avista Corporation, The Montana Power Company, Nevada Power Company, Portland General Electric Company, Puget Sound Energy, Inc., Sierra Pacific Power Company; Notice of Filing

October 20, 2000.

Take notice that on October 16, 2000, the above-captioned companies (collectively Applicants) tendered a filing in compliance with Order No. 2000 and a petition for declaratory order pursuant to section 35.34(d) of the Federal Energy Regulatory Commission's (Commission's) regulations and rule 207(a)(2) of the Commission's Rules of Practice and Procedure, 18 CFR 35.34(d) and 207(a)(2)(2000).

Applicants request the Commission to find that if they form an independent transmission company (ITC) consistent with the ITC described in the filing, that the subject ITC would be considered independent and would be permitted to share certain functions with the regional transmission organization Applicants will seek to join.

Any person desiring to be heard or protest such filing should file a motion to intervene, comments, or protests with the Federal Energy Regulatory Commission, 888 First Street, NE, Washington DC 20426, in accordance with rules 211 and 214 of the Commission's Rules of Practice and Procedure (18 CFR 385.211 and 385.214). All such motions, comments and protests should be filed on or before November 20, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-27549 Filed 10-25-00; 8:45 am]

BILLING CODE 6717-01-M